DEPARTMENT OF COMMERCE

International Trade Administration

University of Arizona; Notice of Consolidated Decision on Applications for Duty-Free Entry of Scientific Instruments

This is a decision consolidated pursuant to section 6(c) of the Educational, Scientific, and Cultural Materials Importation Act of 1966 (Pub. L. 89-651, as amended by Pub. L.106-36; 80 Stat. 897; 15 CFR part 301). Related records can be viewed between 8:30 a.m. and 5:00 p.m. in Room 2104, U.S. Department of Commerce, 14th and Constitution Ave, NW., Washington, DC.

Comments: None received. Decision: Approved. We know of no instrument of equivalent scientific value to the foreign instruments described below, for such purposes as each is intended to be used, that was being manufactured in the United States at the time of its order.

Docket Number: 07-042. Applicant: University of Arizona, Department of Physics, Tucson, AZ. Instrument: Low Temperature Ultra-high Vacuum Scanning Tunneling Microscope. Manufacturer: Omicron NanoTechnology GmbH, Germany. Intended Use: See notice at 72 CFR 41495, July 30, 2007. Reasons: The instrument must provide a temperature at the sample down to 5 K, cool down time to 5 K as low as 6 hours, with 15 hours between refills, Z-resolution to 0.01 nm and achievable vacuum to 10 to the 11th mbar with guaranteed atomic resolution in constant current and constant height on Au(111).

Faye Robinson,
Director, Statutory Import Programs Staff Import Administration.

[FR Doc. E7-16688 Filed 8-22-07; 8:45 am]

BILLING CODE 3510-DS-S